NUCLEAR REGULATORY COMMISSION

[Docket No. 50-263; NRC-2023-0031]

Northern States Power Company; Monticello Nuclear Generating Plant Unit 1; Draft Environmental Impact Statement

AGENCY: Nuclear Regulatory Commission.

ACTION: Request for comment; extension of comment period.

SUMMARY: On April 24, 2024, the U.S. Nuclear Regulatory Commission (NRC) solicited comments on draft Site-Specific Environmental Impact Statement for License Renewal of Nuclear Plants, Supplement 26, Second Renewal, Regarding Subsequent License Renewal for Monticello Nuclear Generating Plant, Unit 1, NUREG-1437. The public comment period was originally scheduled to close on June 10, 2024. The NRC has decided to extend the public comment period to allow more time for members of the public to develop and submit their comments.

DATES: The due date of comments requested in the document published on April 24, 2024 (89 FR 31225) is extended. Comments should be filed no later than June 25, 2024. Comments received after this date will be considered, if it is practical to do so, but the Commission is able to ensure consideration only for comments received on or before that date.

ADDRESSES: You may submit comments by any of the following methods; however, the NRC encourages electronic comment submission through the Federal rulemaking website.

• Federal rulemaking website: Go to https://www.regulations.gov and search for Docket ID NRC-2023-0031. Address questions about Docket IDs in Regulations.gov to Stacy Schumann; telephone: 301-415-0624; email: Stacy.Schumann@nrc.gov.

• Email: Comments may be submitted to the NRC electronically using the email address MonticelloEnvironmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jessica Umaña, Office of Nuclear Material Safety and Safeguards, U.S. Nuclear Regulatory Commission, Washington, DC 20555-0001; telephone: 301-415-5207; email: Jessica.Umana@nrc.gov.

SUPPLEMENTARY INFORMATION:

I. Obtaining Information and Submitting Comments

A. Obtaining Information

Please refer to Docket ID NRC-2023-0031 when contacting the NRC about the availability of information regarding this document. You may obtain publicly available information related to this action using any of the following methods:

• Federal Rulemaking Website: Go to https://www.regulations.gov and search for Docket ID NRC-2023-0031.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft Site-Specific Environmental Impact Statement for License Renewal of Nuclear Plants, Supplement 26, Second Renewal, Regarding Subsequent License Renewal for Monticello Nuclear Generating Plant, Unit 1, NUREG-1437, is available in ADAMS under Accession No. ML24102A276.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the draft Site-Specific Environmental Impact Statement for License Renewal of Nuclear Plants, Supplement 26, Second Renewal, Regarding Subsequent License Renewal for Monticello Nuclear Generating Plant, Unit 1, NUREG-1437, regarding the proposed subsequent renewal of Renewed Facility Operating License Nos. DPR-22, for an additional 20 years of operation for Monticello, will be available for public review at the Monticello Great River Regional Library, 200 W 6th St., Monticello, MN 55362.

B. Submitting Comments

The NRC encourages electronic comment submission through the Federal rulemaking website (https://www.regulations.gov). Please include Docket ID NRC-2023-0031 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On April 24, 2024, the NRC solicited comments on draft Site-Specific Environmental Impact Statement for License Renewal of Nuclear Plants, Supplement 26, Second Renewal, Regarding Subsequent License Renewal for Monticello Nuclear Generating Plant, Unit 1, NUREG-1437. The draft site-specific environmental impact statement evaluates the environmental impacts of proposed action (subsequent license renewal for Monticello Unit 1, whereby the period of operation would be extended for an additional 20 years), and alternatives to the proposed action. The public comment period was originally scheduled to close on June 10, 2024. Pursuant to section 51.73 of title10 of the Code of Federal Regulations (10 CFR), the NRC established a comment period of 45 days from the date of its Federal Register notice (89 FR 31225) issued on April 24, 2024, amending the Environmental Protection Agency initially noticed 45-day comment period established on April 19, 2024 (89 FR 28771). The NRC recently received requests to extend the comment period. The NRC found these requests to be reasonable and has decided, pursuant to 10 CFR 51.73, to extend the public comment period for fifteen days until June 25, 2024, to allow more time for members of the public to submit their comments.

Dated: May 30, 2024.
For the Nuclear Regulatory Commission.
Stephen S. Koenick,
Chief, Environmental Project Management Branch 1, Rulemaking, Environmental and Financial Support, Office of Nuclear Material Safety and Safeguards.

[FR Doc. 2024-12294 Filed 6-4-24; 8:45 am]

BILLING CODE 7590-01-P